DEPARTMENT OF AGRICULTURE

Animal and Plant Health Inspection Service

[Docket No. APHIS-2016-0031]

Environmental Impact Statement; Fruit Fly Eradication Program

AGENCY: Animal and Plant Health Inspection Service, USDA.

ACTION: Notice of intent to prepare an environmental impact statement.

SUMMARY: We are advising the public that the Animal and Plant Health Inspection Service plans to prepare an updated environmental impact statement to analyze the effects of a program to eradicate exotic fruit fly species from wherever they might occur in the United States, including Hawaii, Guam, American Samoa, Puerto Rico, and the U.S. Virgin Islands. This notice identifies potential issues and alternatives that will be studied in the environmental impact statement, and requests public comments to further delineate the scope of the alternatives and environmental impacts and issues.

DATES: We will consider all comments that we receive on or before September 26, 2016.

ADDRESSES: You may submit comments by either of the following methods:

• Federal eRulemaking Portal: Go to http://www.regulations.gov/#!docketDetail;D=APHIS-2016-0031.

• Postal Mail/Commercial Delivery: Send your comment to Docket No. APHIS-2016-0031, Regulatory Analysis and Development, PPD, APHIS, Station 3A-03.8, 4700 River Road, Unit 118, Riverdale, MD 20737-1238.

Supporting documents and any comments we receive on this docket may be viewed at http://www.regulations.gov/#!docketDetail;D=APHIS-2016-0031 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For questions related to the Fruit Fly Eradication Program, contact Mr. John C. Stewart, APHIS National Fruit Fly Eradication Program Manager, Center for Plant Health Science and Technology, PPQ, APHIS, 1730 Varsity Drive, Suite 400, Raleigh NC 27606, John.C.Stewart@aphis.usda.gov; (919) 855-7426. For questions related to the environmental impact statement, contact Dr. Jim Warren, Environmental Protection Specialist, Environmental and Risk Analysis Services, PPD, APHIS, 4700 River Road, Unit 149, Riverdale, MD 20737; Jim.E.Warren@aphis.usda.gov; (202) 316-3216.

SUPPLEMENTARY INFORMATION:

Background

Non-native (exotic) fruit flies in the family Tephritidae have a wide host range, including more than 400 species of fruit and vegetables. Introduction of these pest species into the United States causes economic losses from destruction and spoiling of host commodities by larvae, costs associated with implementing control measures, environmental impacts due to increased pesticide usage if fruit flies become established, and loss of market share due to restrictions on shipment of host commodities. Three species pose the greatest risk to United States agriculture: the Mediterranean fruit fly (Medfly), Ceratitis capitata; the Oriental fruit fly (OFF), Bactrocera dorsalis; and the Mexican fruit fly (Mexfly), Anastrepha ludens.

Currently, Medfly is established in Hawaii where it was first detected in 1910. Although Medfly has been periodically introduced to the United States mainland since 1929, successful eradication programs have prevented it from becoming an established pest in the continental United States. OFF was introduced into Hawaii in the 1940s and has since became established there. Although OFF is not established in the continental United States, new infestations have been detected on an almost annual basis since it was first detected in California in 1960. The Mexfly has been introduced repeatedly to Texas and eradicated since its first introduction in 1927. The risk of introduction along the Mexican and U.S. border continues to increase as the rate of infestations in Mexico increases annually.

The regulations in “Subpart—Fruit Flies” (7 CFR 301.32 through 301.32-10, referred to below as the regulations), restrict the movement of certain regulated articles from quarantined areas in order to prevent the spread of fruit flies to noninfested areas of the United States. Within the quarantined areas, Animal and Plant Health Inspection Service (APHIS) works with State and local officials to eradicate fruit flies, after which the quarantine can be removed.

Current efforts to eradicate infestations include chemical and nonchemical control measures. Chemical options may include applications of insecticides and/or the use of detection and control attractants that can be applied using various methods. Nonchemical control methods include sterile insect technique (SIT) and host removal from areas in and around the detection sites.

Under the provisions of the National Environmental Policy Act of 1969 (NEPA), as amended (42 U.S.C 4321 et seq.), Federal agencies must examine the potential environmental effects of the proposed Federal actions and alternatives. A final environmental impact statement (EIS) was prepared in 2001 to examine the environmental effects of the fruit fly cooperative control program. Since the publication of the 2001 EIS, there have been scientific and technological advances in the field. As a result, we are planning to prepare a new EIS to analyze and examine the environmental effects of control alternatives available to the agency, including a no action alternative. It will be used for planning and decisionmaking and to inform the public about the environmental effects of APHIS' fruit fly eradication activities. It will also provide an overview of APHIS activities to which we can tier site-specific analyses and environmental assessments if new fruit fly infestations are discovered in the United States.

We are requesting public comment to help us identify or confirm potential alternatives and environmental issues that should be examined in the EIS, as well as comments that identify other issues that should be examined in the EIS.

The EIS will be prepared in accordance with: (1) NEPA, (2) regulations of the Council on Environmental Quality for implementing the procedural provisions of NEPA (40 CFR parts 1500-1508), (3) USDA regulations implementing NEPA (7 CFR part 1b), and (4) APHIS' NEPA Implementing Procedures (7 CFR part 372).

We have identified four alternatives for further examination in the EIS:

No action. Under this alternative, APHIS would maintain the program that was described in the 2001 EIS and Record of Decision. This alternative includes methods to exclude, detect, prevent, and control (both nonchemical and chemical) fruit fly infestations. This alternative represents the baseline against which a proposed action may be compared.

No eradication alternative. Under this alternative, APHIS would not control or cooperate with other governmental entities to eradicate exotic fruit flies. Any control efforts would be the responsibility of State and local governments, growers or grower groups, and individual citizens.

Quarantine and commodity treatment and certification. This alternative combines a Federal quarantine with commodity treatment and certification, as stipulated under the regulations. Regulated commodities harvested within the quarantined area would not be allowed to move unless treated with prescribed applications and certified for movement outside the area. Nonchemical treatment and host certification methods that may be used in this alternative include cold treatment, vapor heat treatment, and irradiation treatment. Regulatory certification chemical treatments may include fumigation with methyl bromide.

Integrated pest management approach. Under this alternative, APHIS would use methods to exclude, detect, prevent, and control fruit fly infestations. This alternative would update the information and technologies that were analyzed in the 2001 EIS. These methods could be used individually or in combination with other methods. In an integrated approach, program managers would make management decisions in such a way as to protect human health, nontarget species (endangered and threatened species), sensitive areas, and other components of the environment within the potential program area.

Program eradication efforts may employ any or a combination of the following: No action, regulatory quarantine treatment and control of host materials and regulated articles, host survey for evidence of breeding fruit flies, host removal, eradication chemical applications, mass trapping to delimit the infestation and monitor posttreatment populations, and use of SIT.

We have identified the following potential environmental impacts or issues for further examination in the EIS:

• Effects on wildlife, including consideration of migratory bird species and changes in native wildlife habitat and populations, and federally listed endangered and threatened species;

• Effects on soil, air, and water quality;

• Effects on human health and safety;

• Effects on cultural and historic resources; and

• Effects on economic resources.

We welcome comments on the proposed action, and on other alternatives and environmental impacts, or issues that should be considered for further examination in the EIS.

All comments on this notice will be carefully considered in developing the final scope of the EIS. Upon completion of the draft EIS, a notice announcing its availability and an invitation to comment on it will be published in the Federal Register.

Done in Washington, DC, this 8th day of August 2016.
Kevin Shea,
Administrator, Animal and Plant Health Inspection Service.

[FR Doc. 2016-19223 Filed 8-11-16; 8:45 am]

BILLING CODE 3410-34-P